ENVIRONMENTAL PROTECTION AGENCY

[FRL-7074-3]

Proposed Settlement Agreement

AGENCY: Environmental Protection Agency (EPA).

ACTION: Notice of proposed settlement agreement; request for public comment.

SUMMARY: In accordance with section 113(g) of the Clean Air Act, as amended, 42 U.S.C. 7413(g), notice is hereby given of a proposed settlement agreement in American Portland Cement Alliance v. U.S. Environmental Protection Agency, No. 99-1322 (D.C. Cir.). This case concerns a challenge to the rule entitled National Emission Standards for Hazardous Air Pollutants for Source Categories: Portland Cement Manufacturing Industry, published in the Federal Register at 64 FR 31898 on June 14, 1999. The proposed settlement provides that EPA will propose revisions to the rule that would amend some of the provisions which implement the emission standards, and that EPA will make certain interpretive clarifications regarding the rule's applicability.

For a period of thirty (30) days following the date of publication of this notice, EPA will receive written comments relating to the settlement from persons who were not named as parties to the litigation in question. EPA or the Department of Justice may withhold or withdraw consent to the proposed settlement if the comments disclose facts or circumstances that indicate that such consent is inappropriate, improper, inadequate, or inconsistent with the requirements of the Act. Copies of the settlement are available from Phyllis Cochran, (202) 564-5566. Written comments should be sent to Steven Silverman, Office of General Counsel (2366A), U.S. Environmental Protection Agency, 1200 Pennsylvania Avenue, NW., Washington, DC 20460, and must be submitted on or before November 5, 2001.

Dated: September 26, 2001.
Alan W. Eckert,
Associate General Counsel.

[FR Doc. 01-24906 Filed 10-3-01; 8:45 am]

BILLING CODE 6560-50-P